DEPARTMENT OF THE INTERIOR

Fish and Wildlife Service

50 CFR Part 17

[Docket No. FWS-R4-ES-2024-0073; FXES1111090FEDR-256-FF09E21000]

RIN 1018-BH47

Endangered and Threatened Wildlife and Plants; Critical Habitat Designations for Florida Manatee and Antillean Manatee

AGENCY: Fish and Wildlife Service, Interior.

ACTION: Proposed rule; extension of comment period.

SUMMARY: We, the U.S. Fish and Wildlife Service (Service), are extending the comment period on our September 24, 2024, proposed rule to revise critical habitat for Florida manatee (Trichechus manatus latirostris) and to designate critical habitat for Antillean manatee (T. m. manatus) under the Endangered Species Act of 1973 (Act), as amended. We are extending the proposed rule's comment period for 60 days to give all interested parties an additional opportunity to comment on the proposed rule. Comments previously submitted need not be resubmitted as they are already incorporated into the public record and will be fully considered in the final rule.

DATES: The comment period on the proposed rule that published on September 24, 2024, at 89 FR 78134 is extended. We will accept comments received or postmarked on or before January 24, 2025.

ADDRESSES: You may submit comments by one of the following methods:

(1) Electronically: Go to the Federal eRulemaking Portal: https://www.regulations.gov. In the Search box, enter FWS-R4-ES-2024-0073, which is the docket number for the September 24, 2024, proposed rule. Then, click on the Search button. On the resulting page, in the panel on the left side of the screen, under the Document Type heading, check the Proposed Rule box to locate the correct document. You may submit a comment by clicking on “Comment.”

(2) By hard copy: Submit by U.S. mail to: Public Comments Processing, Attn: FWS-R4-ES-2024-0073, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Nikki Colangelo, Classification and Recovery Division Supervisor, U.S. Fish and Wildlife Service, Florida Ecological Services Field Office, 777 37th Street, Suite D-101, Vero Beach, FL 32960; telephone 772-226-8138. Individuals in the United States who are deaf, deafblind, hard of hearing, or have a speech disability may dial 711 (TTY, TDD, or TeleBraille) to access telecommunications relay services. Individuals outside the United States should use the relay services offered within their country to make international calls to the point-of-contact in the United States. Please see Docket No. FWS-R4-ES-2024-0073 on https://www.regulations.gov for a document that summarizes the September 24, 2024, proposed rule.

SUPPLEMENTARY INFORMATION:

Background

On September 24, 2024, we published in the Federal Register (89 FR 78134) a proposed rule to revise critical habitat for the Florida manatee and to designate critical habitat for the Antillean manatee under the Act (16 U.S.C. 1531 et seq.). The proposed rule opened a 60-day comment period, ending November 25, 2024. We have received multiple requests to extend the public comment period due to impacts from recent hurricanes. With this document, we extend the public comment period for an additional 60 days, as specified above in DATES.

Public Comments

We will accept written comments and information during the extended comment period on our September 24, 2024, proposed critical habitat rule for the West Indian manatee (89 FR 78134). We will consider information from all interested parties. We intend that any final action resulting from the proposal will be based on the best scientific data available and will be as accurate and as effective as possible. Our final critical habitat designation will take into consideration all comments and any additional information we receive during the open comment period on the proposed rule.

Because we will consider all comments and information we receive during the open comment period, as well as any information that may become available after the publication of our proposal, our final designations may differ from our September 24, 2024, proposed rule (89 FR 78134). Based on new information we may receive (and, if relevant, any comments on that new information), we may modify the proposed critical habitat designations. Our final designations may not include all areas proposed, may include some additional areas that meet the definition of critical habitat, or may exclude some areas if we find the benefits of exclusion outweigh the benefits of inclusion and exclusion will not result in the extinction of the species. In our final rule, we will clearly explain our rationale and the basis for our final decision, including why we made changes, if any, that differ from the September 24, 2024, proposed rule.

If you already submitted comments or information on the September 24, 2024, proposed rule, please do not resubmit them. Any such comments are incorporated as part of the public record of the rulemaking proceeding, and we will fully consider them in the preparation of our final determination.

Comments should be as specific as possible. Please include sufficient information with your submission (such as scientific journal articles or other publications) to allow us to verify any scientific information you assert. Please note that submissions merely stating support for, or opposition to, the action under consideration without providing supporting information, although noted, do not provide substantial information necessary to support a determination. Section 4(b)(2) of the Act (16 U.S.C. 1533(b)(2)) directs that the Secretary shall designate critical habitat on the basis of the best scientific data available.

You may submit your comments and materials by one of the methods listed in ADDRESSES. We request that you send comments only by the methods described in ADDRESSES. If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov. Comments and materials we receive, as well as supporting documentation we used in preparing the proposed rule, will be available for public inspection on https://www.regulations.gov at Docket No. FWS-R4-ES-2024-0073.

Authors

The primary authors of this document are members of the Fish and Wildlife Service's Species Assessment Team and the Florida and Caribbean Ecological Services Field Offices.

Authority

The Endangered Species Act of 1973, as amended (16 U.S.C. 1531 et seq.), is the authority for this action.

Signing Authority

Martha Williams, Director of the U.S. Fish and Wildlife Service, approved this action on November 14, 2024, for publication. On November 20, 2024, Martha Williams authorized the undersigned to sign the document electronically and submit it to the Office of the Federal Register for publication as an official document of the U.S. Fish and Wildlife Service.

Madonna Baucum,
Regulations and Policy Chief, Division of Policy, Economics, Risk Management, and Analytics of the Joint Administrative Operations, U.S. Fish and Wildlife Service.

[FR Doc. 2024-27529 Filed 11-22-24; 8:45 am]

BILLING CODE 4333-15-P